DEPARTMENT OF VETERANS AFFAIRS

[OMB Control No. 2900-New (26-1852)]

Agency Information Collection Activities (Description of Materials) Under OMB Review

AGENCY: Veterans Benefits Administration, Department of Veterans Affairs.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before August 1, 2012.

ADDRESSES: Submit written comments on the collection of information through www.Regulations.gov; or to VA's OMB Desk Officer, OMB Human Resources and Housing Branch, New Executive Office Building, Room 10235, Washington, DC 20503 (202) 395-7316. Please refer to “OMB Control No. 2900-New (26-1852)” in any correspondence.

For Further Information OR A Copy OF THE Submission Contact: Denise McLamb, Enterprise Records Service (005R1B), Department of Veterans Affairs, 810 Vermont Avenue NW, Washington, DC 20420, (202) 632-7479, FAX (202) 632-7583 or email: denise.mclamb@va.gov. Please refer to “OMB Control No. 2900-New (26-1852).”

SUPPLEMENTARY INFORMATION: Title: Description of Materials.

OMB Control Number: 2900-New (26-1852).

Type of Review: In use without an OMB number.

Abstract: VA Form 26-1852 is used to document material used in the construction of a dwelling or specially adapted housing project. VA appraiser will use the information collected to establish the value and/or cost of adaptations for the property before it is constructed.

An agency may not conduct or sponsor, and a person is not required to respond to a collection of information unless it displays a currently valid OMB control number. The Federal Register Notice with a 60-day comment period soliciting comments on this collection of information was published on April 23, 2012, at pages 24269-24270.

Affected Public: Individuals or households.

Estimated Annual Burden: 2,100 hours.

Estimated Average Burden Per Respondent: 30 minutes.

Frequency of Response: On time.

Estimated Number of Respondents: 4,200.

Dated: June 27, 2012.
By direction of the Secretary:
Denise McLamb,
Program Analyst, Enterprise Records Service.

[FR Doc. 2012-16107 Filed 6-29-12; 8:45 am]

BILLING CODE 8320-01-P